DEPARTMENT OF ENERGY

Federal Energy Regulatory Commission

[Docket No. CP01-404-000]

Tennessee Gas Pipeline Company; Notice of Request Under Blanket Authorization

July 27, 2001.

Take notice that on July 16, 2001, Tennessee Gas Pipeline Company (Tennessee), P. O. Box 2511, Houston, Texas, filed a request pursuant to sections 157.205, 157.208(b)(2) and 157.211(a)(2) of the Federal Energy Regulatory Commission's (the Commission) Regulations under the Natural Gas Act (NGA), as amended, and blanket certificate authority granted September 1, 1982, in Docket No. CP82-413-000, 20 FERC ¶ 62,409 for authorization to construct, own and operate a lateral line compressor station and a meter station in order to implement firm transportation services for the Rhode Island State Energy Partners L.P. (RISEP) electric generating plant located in Providence County, Rhode Island, and the Providence Gas Company (Providence Gas), all as more fully set forth in the request, which is on file with the Commission, and open for public inspection. This filing may be viewed on the web at http://www.ferc.gov using the “RIMS” link, select “Docket #” from the RIMS Menu and follow the instructions (please call 202-208-2222 for assistance).

Tennessee states that the compressor station will consist of a single 7,150 horsepower natural gas driven compressor unit located adjacent to Tennessee's Rhode Island Lateral, Line No. 265E-100, in Providence County, Rhode Island. Addition of the compressor station will increase the capacity of the line by approximately 100 MMcf/day. Tennessee estimates the cost of construction for the compressor station is $14,100,000.

The proposed meter station will serve the RISEP power generation plant and will be located on the power plant site. The facilities will consist of a tie-in assembly, a Tee connection to the lateral line and a 12-inch ball and check valve. Tennessee estimates that approximately 250 feet of 12-inch pipe will be required to connect the tie-in assembly to the meter station that will include a 2-inch turbine meter, a 6-inch ultrasonic meter and an 8-inch ultrasonic meter as well as electronic gas measurement equipment, and other appurtenances. The estimated cost of the tap and meter station is approximately $976,800. RISEP will reimburse Tennessee approximately $210,000 to cover the cost of “tap facilities” as defined in the general terms and conditions of Tennessee's FERC Gas Tariff.

Any questions regarding this filing should be directed to Jay V. Allen, Counsel, call 832-676-5589 or Thomas G. Joyce, Certificates Manager, call 832-676-3299, Tennessee Gas Pipeline Company, 9 E Greenway Plaza, Houston, Texas 77046-0905.

Any person or the Commission's staff may, within 45 day after issuance of the instant notice by the Commission, file pursuant to Rule 214 of the Commission's Procedural Rules (18 CFR 385.214) a motion to intervene or notice of intervention and pursuant to Section 157.205 of the Regulations under the NGA (18 CFR 157.205), a protest to the request. If no protest is filed within the time allowed therefor, the proposed activity shall be deemed to be authorized effective the day after the time allowed for protest. If a protest is filed and not withdrawn within 30 days after the time allowed for filing a protest, the instant request shall be treated as an application for authorization pursuant to Section 7 of the NGA. Comments, protests and interventions may be filed electronically via the Internet in lieu of paper. See, 18 CFR 385.2001(a)(1)(iii) and the instructions on the Commission's web site at http://www.ferc.gov under the link to the User's Guide. If you have not yet established an account, you will need to create a new account by clicking on “Login to File” and then “New User Account”.

David P. Boergers,
Secretary.

[FR Doc. 01-19270 Filed 8-1-01; 8:45 am]

BILLING CODE 6717-01-P